DEPARTMENT OF TRANSPORTATION

Surface Transportation Board

49 CFR Part 1250

[Docket No. EP 724 (Sub-No. 4)]

United States Rail Service Issues—Performance Data Reporting

AGENCY: Surface Transportation Board, Department of Transportation.

ACTION: Supplemental Notice of Proposed Rulemaking; correction.

SUMMARY: This document corrects the Supplemental Notice of Proposed Rulemaking (SNPR) served on April 29, 2016, and published in the Federal Register on May 5, 2016, (81 FR 27069), titled “United States Rail Service Issues—Performance Data Reporting.”

DATES: The SNPR is corrected as of May 23, 2016. Comments on the SNPR are due by May 31, 2016. Reply comments are due by June 28, 2016.

FOR FURTHER INFORMATION CONTACT: Allison Davis at (202) 245-0378. Assistance for the hearing impaired is available through the Federal Information Relay Service (FIRS) at (800) 877-8339.

SUPPLEMENTARY INFORMATION: A corrected decision was served on May 13, 2016, and is available on the Surface Transportation Board's Web site at http://www.stb.dot.gov. In the corrected decision, the citation to 49 U.S.C. 721 in footnote 4 was corrected to 49 U.S.C. 722(c). On page 19, lines 4-5, the statement “all six of the Class I carriers” was corrected to “all seven of the Class I carriers.” In Table 1 on page 24, “60 or more railcars” was corrected to “50 or more railcars.” On page 30, Request No. 12, the statement “versus cars actually and on constructive placement” was corrected to “versus cars actually placed and on constructive placement.” A number of minor typographical errors were also corrected in the decision.

In the Supplemental Notice of Proposed Rulemaking beginning on page 81 FR 27069 in the issue of May 5, 2016 of the Federal Register make the following corrections:

• In the preamble, on page 27070, in 1st column, in footnote 3, correct “49 U.S.C. 721” to read “49 U.S.C. 722(c)”.

• In the preamble, on page 27076, in the 3rd column, correct the statement “all six of the Class I carriers” to read “all seven of the Class I carriers.”

• In the preamble, on page 27079, in Table 1, on the 3rd line correct the statement “60 or more railcars” to “50 or more railcars.”

• In the amendatory language, on page 27081, in the 3rd column, in the proposed rule 49 CFR 1250.2(12)(ii) correct the statement “versus cars actually and on constructive placement” to “versus cars actually placed and on constructive placement.”

Additional information is contained in the Board's decision, which is available on our Web site at http://www.stb.dot.gov.

Decided: May 13, 2016.
By the Board, Chairman Elliott, Vice Chairman Miller, and Commissioner Begeman.
Kenyatta Clay,
Clearance Clerk.

[FR Doc. 2016-11805 Filed 5-20-16; 8:45 am]

BILLING CODE 4915-01-P